DEPARTMENT OF COMMERCE

International Trade Administration

Announcement of Winter 2022 Approved International Trade Administration Trade Missions

AGENCY: International Trade Administration, Department of Commerce.

ACTION: Notice.

SUMMARY: The United States Department of Commerce, International Trade Administration (ITA), is announcing six upcoming trade missions that will be recruited, organized, and implemented by ITA. These missions are:

• U.S. Industry Program (USIP) at the International Atomic Energy Agency (IAEA) General Conferencein Vienna, Austria—9/25-9/28/2022

• Executive-Led Advanced Manufacturing Business Development Mission to Indonesia and Singapore, with an optional stop in Japan—10/17-10/21/2022

• Women in Tech Trade Mission to France, Netherlands, and Portugal—10/30-11/5/2022

• Executive-Led Middle East Aerospace and Defense Trade Mission—11/6-11/11/2022

• Clinical Waste Management Mission to Indonesia and Malaysia—3/6-3/10/2023

• Middle East Executive-led Clean Tech Trade Mission—3/12-3/17/2023

A summary of each mission is found below. Application information and more detailed mission information, including the commercial setting and sector information, can be found at the trade mission website: https://www.trade.gov/trade-missions.

For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Events Management Task Force, International Trade Administration, U.S. Department of Commerce, 1401 Constitution Avenue NW, Washington DC 20230; telephone (202) 482-6397 or email Jeffrey.Odum@trade.gov.

The following conditions for participation will be used for each mission: Applicants must submit a completed and signed mission application and supplemental application materials, including adequate information on their products and/or services, primary market objectives, and goals for participation to allow the Department of Commerce to evaluate their application. If the Department of Commerce receives an incomplete application, the Department may either: Reject the application, request additional information/clarification, or take the lack of information into account when evaluating the application. If the requisite minimum number of participants is not selected for the mission by the recruitment deadline, the mission may be cancelled.

Each applicant must also certify that the products and services it seeks to export through the mission are either produced in the United States, or, if not, are marketed under the name of a U.S. firm and have at least 51% U.S. content by value. In the case of an organization, the applicant must certify that, for each entity to be represented by the organization, the products and/or services the represented firm or service provider seeks to export are either produced in the United States or, if not, marketed under the name of a U.S. firm and have at least 51% U.S. content.

An organization applicant must certify to the above for all of the companies it seeks to represent on the mission.

In addition, each applicant must:

• Certify that the export of products and services that it wishes to market through the mission is in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The following selection criteria will be used for each mission: Targeted mission participants are U.S. firms, services providers and organizations (universities, research institutions, or financial services trade associations) providing or promoting U.S. products and services that have an interest in entering or expanding their business in the mission's destination country. The following criteria will be evaluated in selecting participants:

• Suitability of the applicant's (or in the case of an organization, represented firm's or service provider's) products or services to these markets;

• The applicant's (or in the case of an organization, represented firm's or service provider's) potential for business in the markets, including likelihood of exports resulting from the mission; and

• Consistency of the applicant's (or in the case of an organization, represented firm's or service provider's) goals and objectives with the stated scope of the mission.

Balance of applicant's size and location may also be considered during the review process. Referrals from a political party or partisan political group or any information, including on the application, containing references to political contributions or other partisan political activities will be excluded from the application and will not be considered during the selection process. The sender will be notified of these exclusions.

Trade mission participation fees: If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas. Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/travel/en/traveladvisories/traveladvisories.html/. Any question regarding insurance coverage must be resolved by the participant and its insurer of choice.

Definition of small- and medium-sized enterprise: For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

Important note about the covid-19 pandemic: Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees, accordingly, prepare an agenda for virtual activities, and notify the previous selected applicants with the option to opt-in to the new virtual program.

Mission list: (additional information about each mission can be found at https://www.trade.gov/trade-missions).

U.S. Industry Program at the International Atomic Energy Agency (IAEA) General Conference in Vienna, Austria Dates: September 25-28, 2022

Summary

The U.S. Department of Commerce's (DOC) International Trade Administration (ITA), with participation from the U.S. Departments of Energy and State, is organizing its annual U.S. Industry Program at the International Atomic Energy Agency (IAEA) General Conference, to be held September 25-28, 2022, in Vienna, Austria. The IAEA General Conference is the premier global meeting of civil nuclear policymakers and typically attracts senior officials and industry representatives from all 172 Member States. The U.S. Industry Program is part of the DOC's Civil Nuclear Trade Initiative, a U.S. Government (USG) effort to help U.S. civil nuclear companies identify and capitalize on commercial civil nuclear opportunities around the world. The purpose of the program is to demonstrate high level USG support for the U.S. nuclear industry to promote its services and technologies to an international audience, including senior energy policymakers from current and emerging markets as well as IAEA staff.

Representatives of U.S. companies from across the U.S. civil nuclear supply chain are eligible to participate. In addition, organizations providing related services to the industry, such as universities, research institutions, and U.S. civil nuclear trade associations, are eligible for participation. The mission will help U.S. participants gain market insights, make industry contacts, solidify business strategies, and identify or advance specific projects with the goal of increasing U.S. civil nuclear exports to a wide variety of countries interested in nuclear energy. A senior DOC official will lead the U.S. industry delegation.

The schedule includes: Meetings with foreign delegations and discussions with senior USG officials on important civil nuclear topics including regulatory, technology and standards, liability, public acceptance, export controls, financing, infrastructure development, and R&D cooperation. Past U.S. Industry Programs have included participation by the U.S. Secretary of Energy, the Chairman of the U.S. Nuclear Regulatory Commission (NRC) and senior USG officials from the Departments of Commerce, Energy, State, the Export-Import Bank of the United States and the National Security Council.

There are significant opportunities for U.S. businesses in the global civil nuclear energy market. With 52 reactors currently under construction in 15 countries and 160 nuclear plant projects planned in 27 countries over the next 8-10 years, this translates to a market demand for equipment and services totaling $500-740 billion over the next ten years.

Proposed Timetable

****Note that specific events and meeting times have yet to be confirmed****

Sunday, September 25

3:00 p.m.-5:00 p.m. 1-1 Showtime Meetings with visiting ITA Staff

6:00 p.m.-8:00 p.m. U.S. Industry Welcome Reception

Monday, September 26

7:00 a.m. Industry Program Breakfast Begins

8:00-9:45 a.m. U.S. Policymakers Roundtable

9:45-10:00 a.m. Break

10:00-11:00 a.m. USG Dialogue with Industry

11:00 a.m.-6:00 p.m. IAEA Side Events

11:00 a.m.-12:30 p.m. Break

12:30-6:00 p.m. Country Briefings for Industry Delegation (presented by foreign delegates)

7:30-9:30 p.m. U.S. Mission to the IAEA Reception

Tuesday, September 27

9:00 a.m.-6:00 p.m. Country Briefings for Industry (presented by foreign delegates)

10:00 a.m.-6:00 p.m. IAEA Side Event Meetings

Wednesday, September 28

9:00 a.m.-6:00 p.m. Country Briefings for Industry (presented by foreign delegates)

10:00 a.m.-6:00 p.m. IAEA Side Event Meetings

Participation Requirements

All parties interested in participating in the trade mission must complete and submit an application package for consideration by the DOC. All applicants will be evaluated on their ability to meet certain conditions and best satisfy the selection criteria as outlined below. A minimum of 15 and maximum of 50 companies and/or trade associations and/or U.S. academic and research institutions will be selected to participate in the mission from the applicant pool. The first ten applicants will be permitted to send two representatives per organization (if desired). After the first ten applicants, additional representatives will be permitted only if space is available. Participating companies may send more than two participants if space permits. The Department of Commerce will evaluate applications and inform applicants of selection decisions [three weeks after publication in the Federal Register] and on a rolling basis thereafter until the maximum number of participants has been selected.

Fees and Expenses

After a company or organization has been selected to participate on the mission, a payment to the DOC in the form of a participation fee is required. The fee covers ITA support to register U.S. industry participants for the IAEA General Conference. Expenses for travel, lodging, meals, and incidentals will be the responsibility of each mission participant. Interpreter and driver services can be arranged for additional cost. Participants will be able to take advantage of discounted rates for hotel rooms.

The fee to participate in the event is $5,246 for a large company and $4,915 for a small or medium-sized company (SME)2, a trade association, or a U.S. university or research institution. The fee for each additional representative (large company, trade association, university/research institution, or SME) is $2,000.

Timeframe for Recruitment and Application

Mission recruitment will be conducted in an open and public manner, including publication in the Federal Register, posting on the Commerce Department trade mission calendar (https://www.trade.gov/trade-missions-schedule) and other internet websites, press releases to general and trade media, direct mail, notices by industry trade associations and other multiplier groups, and publicity at industry meetings, symposia, conferences, and trade shows. Recruitment for the mission will begin immediately and conclude no later than July 22, 2022. The U.S. Department of Commerce will review applications and inform applicants of selection decisions on a rolling basis. Applications received after July 22, 2022, will be considered only if space and scheduling constraints permit. If the trade mission cannot be held due to the COVID-19 global pandemic, the event will be postponed to the September 2022 IAEA General Conference. ITA will notify participants by July 30, 2021 regarding a decision to postpone the event.

Contacts

Jonathan Chesebro, Industry & Analysis, Office of Energy and Environmental Industries, Washington, DC, Tel: (202) 603-4968, Email: jonathan.chesebro@trade.gov.

Sagatom Saha, Industry & Analysis, Office of Energy and Environmental Industries, Washington, DC, Tel: (202) 843-2376, Email: sagatom.saha@trade.gov.

Executive-Led Advanced Manufacturing Business Development Mission to Indonesia and Singapore, With an Optional Stop in Japan, Dates: October 17-21, 2022

Summary

The United States Department of Commerce, International Trade Administration (ITA), is organizing an Executive-Led Advanced Manufacturing Business Development Mission to Indonesia and Singapore, with an optional stop in Japan, from October 17-21, 2022.

The mission will visit Jakarta, Indonesia; Batam, Indonesia; and Singapore, along with an optional stop in Tokyo, Japan. The purpose of the mission is to increase U.S. exports to Indonesia and Singapore (with optional export opportunities to Japan) by connecting U.S. firms and the National Electrical Manufacturers Association (NEMA) to pre-screened business prospects. The mission will focus on advanced manufacturing systems—commonly referred to as “Industry 4.0” or “Smart Manufacturing.” These products and systems increase productivity and quality, reduce energy use, and enable manufacturers to better monitor and interact with their supply chains, all of which are essential to improving manufacturing resiliency. The delegation will be comprised of representatives with decision-making authority from U.S. companies producing advanced manufacturing systems and representatives from NEMA. The mission will align with NEMA's Market Development Cooperator Program (MDCP), which looks to expand U.S. exports of advanced manufacturing systems through greater participation in relevant technical standards development and greater collaboration with business leaders.

Delegates will benefit from the guidance and insights of ITA's commercial teams working in these markets. The mission will introduce U.S. firms and NEMA to advanced manufacturing stakeholders in the region and assist U.S. companies in finding foreign business partners in order to export their products and services to Indonesia and Singapore (with optional opportunities in Japan).

Proposed Timetable

*Note: The final schedule and potential site visits will depend on the availability of host government and business officials, specific goals of mission participants, and ground transportation.

Sunday, October 16, 2022 | Arrive in Jakarta.
Monday, October 17, 2022 | Full day in-person event in Jakarta. The morning will consist of presentations by the participating companies in a seminar-style format. The afternoon will include a networking lunch and/or one-on-one sessions with the U.S. companies and with relevant Indonesian stakeholders. Finally, an evening reception at the Ambassador's Residence (dependent on Covid mitigation requirements). We will invite other stakeholders that did not participate in the earlier session. These typically include those stakeholders that are influential but might not be directly related to the manufacturing sector.
Tuesday, October 18, 2022 | Travel to Batam. Site visit to manufacturing facilities in Batam Industrial Estate. Note: Participants may opt-out of the visit to Batam and travel directly to Singapore to participate in Industrial Transformation Asia-Pacific (ITAP).
Wednesday, October 19, 2022 | Ferry from Batam to Singapore. Participate in Industrial Transformation Asia-Pacific (ITAP), Singapore.
Thursday, October 20, 2022 | Participate in Industrial Transformation Asia-Pacific (ITAP), Singapore. Note: Participants may travel to Tokyo, Japan for optional spin-off event.
Friday, October 21, 2022 | Return to U.S. from Singapore. Optional add-on: Full day event/matchmaking in Tokyo Japan.
Saturday, October 22, 2022 | Return to U.S. from Tokyo, Japan.

Participation Requirements

All parties interested in participating in the trade mission must complete and submit an application package for consideration by the DOC. All applicants will be evaluated on their ability to meet certain conditions and best satisfy the selection criteria as outlined below. A minimum of 10 and maximum of 15 firms and/or trade associations will be selected to participate in the mission from the applicant pool.

Fees And Expenses

After a firm or trade association has been selected to participate on the mission, a payment to the Department of Commerce in the form of a participation fee is required. The participation fee for the Executive Led Mission will be $3,500 for small or medium-sized enterprises (SME); ⁷ and $4,000 for large firms or trade associations. The fee for each additional firm representative (large firm or SME/trade organization) is $1,000. The participation fee for the optional spin-off to Tokyo Japan will be $950 for small firms, $2,300 for medium-sized firms; and $3,400 for large firms or trade associations. Expenses for travel, lodging, meals, and incidentals will be the responsibility of each mission participant. Interpreter and driver services can be arranged for additional cost. Delegation members will be able to take advantage of U.S. Embassy rates for hotel rooms.

Timeframe for Recruitment and Application

Mission recruitment will be conducted in an open and public manner, including publication in the Federal Register, posting on the Commerce Department trade mission calendar (https://www.trade.gov/trade-missions-schedule) and other internet websites, press releases to general and trade media, direct mail, notices by industry trade associations and other multiplier groups, and publicity at industry meetings, symposia, conferences, and trade shows. Recruitment for the mission will begin immediately and conclude no later than August 31, 2022. The U.S. Department of Commerce will review applications and inform applicants of selection decisions on a rolling basis. Applications received after June 30, 2022, will be considered only if space and scheduling constraints permit. If the trade mission cannot be held due to the COVID-19 global pandemic, the event will be postponed to the September 2022 IAEA General Conference. ITA will notify participants by July 30, 2022, regarding a decision to postpone the event.

Contacts

Amanda Lawrence, International Trade Specialist, I&A Machinery Team, NEMA MDCP Team Lead, Washington, United States, Tel: +1 202 322 9146, Email: amanda.lawrence@trade.gov.

Pam Plagens, Advanced Manufacturing Team Leader, International Trade Administration, Texas, United States, Tel: +1 832 248 1558, Email: pam.plagens@trade.gov.

Yanssen Tandy, Commercial Specialist, Embassy of the United States of America, Jakarta, Indonesia, Tel: +62 (21) 5083 1000, Email: yanssen.tandy@trade.gov.

Chan Yiu Kei, Commercial Specialist, Embassy of the United States of America, Singapore, Singapore, Tel: +65 6476 9037/9029, Email: yiukei.chan@trade.gov.

Heather J. Connell, Commercial Officer, Embassy of the United States of America, Tokyo, Japan, Tel: +81 3 3224 5092, Email: heather.connell@trade.gov.

Yu Ohashi, Commercial Assistant, Embassy of the United States of America, Tokyo, Japan, Tel: +81 3 3224 5074, Email: yu.ohashi@trade.gov.

Diana Hajali, International Trade Specialist, Office of Standards & Intellectual Property (OSIP), Washington, United States, Tel: +1 202 893 6495, Email: Diana.Hajali@trade.gov.

Jaron Bass, International Trade Specialist, I&A Machinery Team, Washington, DC, United States, Tel: +1 202 839 2357, Email: jaron.bass@trade.gov.

Kyungsoo (Dan) Kim, Global Asia Team Leader, International Trade Administration, Chicago, United States, Tel: +1 312 485 4548, Email: kyungsoo.kim@trade.gov.

Paul Taylor, Commercial Attaché, Embassy of the United States of America, Jakarta, Indonesia, Tel: +62 (21) 5083 1000, Email: paul.taylor@trade.gov.

Christopher Quinlivan, Senior Commercial Officer, Embassy of the United States of America, Singapore, Singapore, Tel: +65 6476 9041, Email: christopher.quinlivan@trade.gov.

Michael Middleton, Commercial Officer, Embassy of the United States of America, Tokyo, Japan, Tel: +81-3-3224-5091, Email: michael.middleton@trade.gov.

David Nufrio, Deputy Director, International Trade Administration, Washington, United States, Tel: +1 202 482 5175, Email: David.Nufrio@trade.gov.

Elliott Brewer, International Trade Specialist/Indonesia Desk Officer, International Trade Administration, Washington, United States, Tel: +1 202 430 8025, Email: Elliott.Brewer@trade.gov.

Matthew Eiss, International Trade Specialist/Singapore Desk Officer, International Trade Administration, Washington, United States, Tel: +1 202 893 1470, Email: matthew.eiss@trade.gov.

Danius Barzdukas, International Trade Specialist/Japan Desk Officer, International Trade Administration, Washington, United States, Tel: +1 202 482 1147, Email: danius.barzdukas@trade.gov.

Women-in-Technology Focused Trade Mission (WTTM) to France, Netherlands, and Portugal, Dates: October 30-November 5, 2022

Summary

The United States Department of Commerce, International Trade Administration (ITA), is organizing an executive-led Women in Technology (Tech) Trade Mission (WTTM) to France, Netherlands, and Portugal from Sunday, October 30, 2022, to Saturday, November 5, 2022.

The recruitment for the WTTM will be a targeted focus on women-owned business and female executives of U.S. companies. However, recruitment and consideration will be given to all export-ready companies that meet the established criteria for participation in the mission. Trade mission activities will be designed to target the export assistance needs of American companies.

The focus of the WTTM is on the information and communication technology (ICT) sector and subsectors of cybersecurity, smart city infrastructure and technology solutions, artificial intelligence markets and cloud computing.

The delegation will be comprised of representatives with decision-making authority from U.S. companies, U.S. trade associations and national chambers of commerce representing businesses in the cited sectors, with an emphasis on recruiting and vetting women owned business and/or female executives of U.S. companies.

The mission will make three stops: Amsterdam, Netherlands; Lisbon, Portugal; and Paris, France. The purpose of the planned executive-led mission is to provide opportunities for U.S. companies, to access European regional markets and increase U.S. exports to the European Union (EU) by connecting U.S. firms and trade associations to pre-screened business prospects.

Proposed Timetable

* Note: The final schedule and potential site visits will depend on the availability of host government and business officials, specific goals of mission participants, and ground transportation.

* Note: The final schedule and potential site visits will depend on the availability of host government and business officials, specific goals of mission participants, and ground transportation.

Sunday, October 30, 2022 | • Trade Mission Participants Arrive in Amsterdam, Netherlands and Check in their Hotel and for those that arrive on time attend a Hosted Welcome Reception.
Monday, October 31 | • Morning Mission Briefing on Doing Business in Netherlands, B2B meetings, Networking Lunch with Government or Industry Speaker and Evening Networking Reception hosted by Consul General.
Tuesday, November 1 | • Checkout of Hotel, Travel to Lisbon, Portugal. Arrive in Portugal. Check into Hotel. Briefing on Doing Business in Portugal and on the Web Summit. Lunch and B2B networking at the Web Summit. Evening networking event in conjunction with the Web Summit.
Wednesday, November 2 | • Web Summit—Meetings and Networking Events.
Thursday, November 3 | • Checkout of Hotel, Travel to Paris, France. Arrive in Paris. Check into Hotel. Briefing on Doing Business in France. B2B/B2G Meetings. Networking Event.
Friday, November 4 | • B2B Meetings, Networking Lunch. B2G Meetings.
Saturday, November 5 | • Checkout Hotel, Transfer to Airport, Mission Participants Leave France and Travel Home or to Spin-off. Mission is completed.

Participation Requirements

All parties interested in participating in the trade mission must complete and submit an application package for consideration by the DOC. All applicants will be evaluated on their ability to meet certain conditions and best satisfy the selection criteria as outlined below. A minimum of 15 and maximum of 20 firms and/or trade associations will be selected to participate in the mission from the applicant pool.

Fees and Expenses

After a firm or trade association has been selected to participate on the mission, a payment to the Department of Commerce in the form of a participation fee is required. The participation fee for the Women in Tech Trade Mission will be $4715 for small or medium-sized enterprises (SME); ¹ and $7320 for large firms or trade associations. The fee for each additional firm representative (large firm or SME/trade organization) is $1000, with a limit of 2 additional representatives for each participating firm. Expenses for travel, lodging, meals, and incidentals will be the responsibility of each mission participant. Interpreter and driver services can be arranged for additional cost. Delegation members will be able to take advantage of U.S. Embassy rates for hotel rooms.

Timeframe for Recruitment and Application

Mission recruitment will be conducted in an open and public manner, including publication in the Federal Register, posting on the Commerce Department trade mission calendar (https://www.trade.gov/trade-missions) and other internet websites, press releases to general and trade media, direct mail, notices by industry trade associations and other multiplier groups, and publicity at industry meetings, symposia, conferences, and trade shows. Recruitment for the mission will begin immediately and conclude no later than September 1, 2022. The U.S. Department of Commerce will review applications and inform applicants of selection decisions on a staggered basis. The Department of Commerce will evaluate applications and inform applicants of selection decisions three times during the recruitment period. All applications received subsequent to an evaluation date will be considered at the next evaluation. Deadlines for each round of evaluation are as follows:

• First Evaluation: July 1, 2022

• Second Evaluation: July 22, 2022

• Finall Evaluation: September 1, 2022

Applications received after September 1, 2022, will be considered only if space and scheduling constraints permit.

Contacts

• Scott Pozil, Regional Senior Commercial Officer, France, +336 2527 8431 Scott.Pozil@trade.gov, Overall Lead

• Philip Hammerstein Commercial Specialist, The Hague, Netherlands, +31 70 310 2416, Philip.Hammerstein@trade.gov, Netherlands Lead

• Paulo Mattos, Commercial Specialist, Lisbon, Portugal, + 34 670 020 110, Paulo.Mattos@trade.gov, Portugal Lead

• Rose-Marie Faria, Commercial Specialist, Paris, France, +336 7845 3033 Rose-Maria.Faria@trade.gov, France Lead

• Susan Hettleman, Commercial Officer, New York USEAC, 1 646 306 0231, Susan.Hettleman@trade.gov, U.S. Domestic Lead

• Rebecca Korff, Office of Digital Services Industries, 1 202 631 4764, Rebecca.Korff@trade.gov, I&A Lead

• Ellen House, GM Office of Europe, Ellen.House@trade.gov

• Blake Murray, GM Office of Europe, Blake.Murray@trade.gov

Middle East Aerospace and Defense Executive Led Trade Mission to Israel, Saudi Arabia, and Bahrain, Dates: November 6-11, 2022

Summary

The United States Department of Commerce, International Trade Administration (ITA), is organizing an Aerospace and Defense Trade Mission to the Middle East on November 6-11, 2022. This will be an Executive-led Mission at the Under Secretary or Deputy Under Secretary level. The purpose of the mission is to introduce U.S. companies to the aerospace and defense ecosystem in key Middle Eastern countries and assist delegate companies with finding business partners and exporting their products and services to the region. The mission will target approximately ten to fifteen U.S. companies and trade association representatives with members that provide products and services related to a broad range of best prospect aerospace and defense subsectors in these markets.

Mission delegates will have access to business development opportunities across Israel, Bahrain, and Saudi Arabia. Participating firms will gain market insight, make industry contacts, solidify business strategies, and advance specific projects, with the goal of increasing U.S. exports of products and services in the aerospace and defense sectors. The subsectors will depend on the nature of the market, potential demand, prospective government procurements, and other factors closer to the start of recruitment. A full list of potential subsectors can be found in the Executive Summary.

The mission will include customized one-on-one business appointments with pre-screened potential buyers, agents, distributors, and joint venture partners. It will also include meetings with central, state, and local government officials and industry leaders, as well as networking events. The mission will include stops in Israel, Saudi Arabia, and Bahrain and is purposefully scheduled to maximize synergies with the Bahrain Airshow, November 9-11, 2022, as well as the U.S.-Israel Defense Technology Expo being organized in early November in conjunction with ISDEF, Israel's largest international defense expo.

USG Objectives

• Maintain the United States' position as the partner of choice for defense and aerospace technologies.

• Signal the USG's commitment to key allies in the Middle East by connecting them with U.S. cutting-edge technologies.

• Provide alternative options to less reliable solutions being offered by Chinese and Russian competitors who are actively trying to displace U.S. suppliers and partners.

U.S. Exporter Objectives

• Capitalize on the billions of dollars being provided in Foreign Military Sales (FMS) and Foreign Military Financing (FMF) grants given to Israel ($3.3 billion FMF/$23.2 billion FMS active cases), Saudi Arabia ($126.6 billion FMS in active cases) and Bahrain ($6.08 billion FMS active cases) for the purchase of U.S. defense equipment, services and training.

• Establish new partnerships in some of the world's fastest growing tech hubs where some of the leading innovations in defense technologies are happening (artificial intelligence, cybersecurity and big data analytics).

• Build, execute and expand company exporting strategies in primary entry points into the Middle East that can eventually be replicated in neighboring markets.

Proposed Timetable

*Note: The final schedule and potential site visits will depend on the availability of host government and business officials, specific goals of mission participants, and ground transportation.

Sunday, November 6, 2022 | • Trade Mission Participants Arrive in Israel. • No-host dinner.
Monday, November 7, 2022 | • Israel Market Orientation Briefing. • Ministry and other Israeli Government Briefings and Meetings. • B2B Meetings. • Networking Reception.
Tuesday, November 8, 2022 | • Additional B2B Meetings/Site Visits in Israel. • Fly to Saudi Arabia (layover in Turkey or UAE). • Networking Reception.
Wednesday, November 9, 2022 | • KSA Market Orientation Briefing. • Ministry and other Saudi Government Briefings and Meetings. • B2B Meetings. • Fly to Bahrain (evening flight). • Welcome Dinner and Bahrain Market Orientation Briefing.
Thursday, November 10, 2022 | • Ministry and other Bahraini Government Briefings and Meetings. • B2B Meetings. • Attend Bahrain Air Show. • Networking Reception.
Friday, November 11, 2022 | • Additional B2B Meetings/Attend Air Show. • Trade Mission Participants Depart Manama Enroute to U.S.

Participation Requirements

All parties interested in participating in the trade mission must complete and submit an application package for consideration by the Department of Commerce. All applicants will be evaluated on their ability to meet certain conditions and best satisfy the selection criteria as outlined below. The mission will target a delegation of 15 firms, with a minimum of 10 to make the mission viable.

Fees and Expenses

After a firm or trade association has been selected to participate on the mission, a payment to the Department of Commerce in the form of a participation fee is required. The participation fee for the Middle East Aerospace and Defense Mission will be $6,800 for small or medium-sized enterprises (SME); ¹ and $7,800 or large firms or trade associations. The fee for each additional firm representative (large firm or SME/trade organization) is $1,000. Expenses for travel, lodging, meals, and incidentals will be the responsibility of each mission participant. Interpreter and driver services can be arranged for additional cost. Delegation members will be able to take advantage of U.S. Embassy rates for hotel rooms.

Timeframe for Recruitment and Application

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than September 30, 2022. The U.S. Department of Commerce will review applications and inform applicants of selection decisions on a rolling basis. Applications received after September 30, 2022, will be considered only if space and scheduling constraints permit.

Contacts

Mike Calvert, Deputy Senior Commercial Officer, U.S. Embassy Israel, U.S. Commercial Service, Mobile: +972 3-519-8509, Mike.Calvert@trade.gov.

Jason Sproule, Aerospace and Defense Global Team Leader, U.S. Commercial Service Los Angeles, Tel: 213-894-8785, Jason.Sproule@trade.gov.

Naomi Wiegler, Desk Officer for Israel, Saudi Arabia and Bahrain, International Trade Administration, U.S. Department of Commerce, Tel: 202-294-0776, Naomi.Wiegler@trade.gov.

Clinical Waste Management Mission to Indonesia and Malaysia Dates: March 6-10, 2023

Summary

The United States Department of Commerce, International Trade Administration (ITA), is organizing an Executive-Led Clinical Waste Management Mission to Indonesia and Malaysia on March 6-10, 2023.

The Clinical Waste Management Mission will assistU.S. environmental technology and waste management sectorexportersandITA strategic partnersinexploring market opportunities into Southeast Asia. The new Mission will include matchmaking appointments, market briefings, policy-focused roundtables, and site visits to increase U.S. industry competitiveness and build relationships. Mission participants will gain firsthand knowledge of theselectedSoutheast Asianmarketsthrough business overviews and introductions to hospitals and clinical laboratories, government healthcareagencies, distributors,and others who could benefit from U.S.products and services.

Delegates will benefit from the guidance and insights of ITA's commercial teams working in the market. The mission will introduce U.S. firms to environmental and waste management stakeholders in Indonesia and Malaysia and assist U.S. companies in finding foreign business partners in order to export their products and services to Indonesia and Malaysia or to expand further their business in Indonesia and Malaysia.

The Clinical Waste Management Mission to Indonesia and Malaysia will includeU.S. environmental technologies in the following high potential areas:

• Decontamination Equipment

• Hazardous Waste Management Equipment

• Medical Waste Control

Proposed Timetable

* Note: The final schedule and potential site visits will depend on the availability of host government and business officials, specific goals of mission participants, and ground transportation.

Indonesia Day 1 | • Trade Mission Participants Arrive.
Indonesia Day 2 | • Full day in-person event in Jakarta. • The morning will consist of country briefing for delegation, meeting with Indonesian government agencies/ministries. • The afternoon will include a networking lunch and/or one-on-one sessions with the U.S. companies and with relevant Indonesian stakeholders or potential local partners. • Evening reception at the Ambassador's or Deputy Chief of Mission (DCM) Residence or at the hotel.
Indonesia Day 3 | • Depart Indonesia. • Travel to Kuala Lumpur, Malaysia.
Malaysia Day 1 | • Country briefing for delegation. • meeting with Malaysian government agencies/ministries.
Malaysia Day 2 | • Full-day in-person event in Kuala Lumpur. • One-on-one sessions with relevant Malaysian stakeholders and potential local partners. • Evening reception at the Ambassador's or Deputy Chief of Mission (DCM) Residence or at the hotel.
Malaysia Day 3 | • Depart Malaysia.

Participation Requirements

All parties interested in participating in the trade mission must complete and submit an application package for consideration by the DOC. All applicants will be evaluated on their ability to meet certain conditions and best satisfy the selection criteria as outlined below. A minimum of 10 and maximum of 14 firms and/or trade associations will be selected to participate in the mission from the applicant pool.

Fees and Expenses

After a firm or trade association has been selected to participate on the mission, a payment to the Department of Commerce in the form of a participation fee is required. The participation fee for the Executive Led Mission will be $5,100 for small or medium-sized enterprises (SME); ¹ and $6,900 for large firms or trade associations. The fee for each additional firm representative (large firm or SME/trade organization) is $500. Expenses for travel, lodging, meals, and incidentals will be the responsibility of each mission participant. Interpreter and driver services can be arranged for additional cost. Delegation members will be able to take advantage of U.S. Embassy rates for hotel rooms.

Timeframe for Recruitment and Application

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than December 31, 2022. The U.S. Department of Commerce will review applications and inform applicants of selection decisions on a rolling basis. Applications received after December 31, 2022, will be considered only if space and scheduling constraints permit.

Contacts

Ryan Russell, Global Environmental Technologies Team Leader, U.S. Commercial Service, Pittsburgh, Ph: +1-412-644-2817, Ryan.Russell@trade.gov.

Tricia McLain, Global Healthcare Team, U.S. Commercial Service, Newark, Ph: +1 973-645-4682 ext. 212, Tricia.McLain@trade.gov.

Evelina Scott, I&A Office of Energy and Environmental Industries, U.S. Department of Commerce | International Trade Administration, Ph: +1-202-603-4765, evelina.scott@trade.gov.

Indonesia

Eric Hsu, Senior Commercial Officer, Jakarta, Indonesia, Ph: +62 (21) 5083 1000, Eric.Hsu@trade.gov.

Elliot Brewer, Indonesia Desk Officer, Global Markets Asia, Washington, DC, Ph: +1 202 430 8025, Elliott.Brewer@trade.gov.

Fidhiza Purisma, Commercial Specialist (Environmental Technology), Ph: +62 (21) 5083 1000, Fidhiza.Purisma@trade.gov.

Pepsi Maryarini, Commercial Specialist (Healthcare), Ph: +62 (21) 5083 1000, Pepsi.Maryarini@trade.gov.

Malaysia

Francis Peters, Senior Commercial Officer, Kuala Lumpur, Malaysia, Ph: +60-3-2168-4869, Francis.Peters@trade.gov.

Krista Barry, Vietnam and Malaysia Desk Officer, Global Markets Asia, Washington, DC, Ph: 202-389-2298, Krista.Barry@trade.gov.

Siau Wei Pung, Senior Commercial Specialist (Environmental Technology), Ph: +60-3-2168-5050 Ext: 5139, SiauWei.Pung@trade.gov.

Bethany Tien, Commercial Specialist (Healthcare), Ph: +60-3-2168-5050 Ext: 4825, Bethany.Tien@trade.gov.

Middle East Clean Tech Executive Led Trade Mission to Saudi Arabia, the UAE and Israel, Dates: March 12-March 17, 2023

Summary

The United States Department of Commerce, International Trade Administration (ITA), is organizing an Executive-Led Clean Tech Business Development Mission to Saudi Arabia, the UAE, and Israel, with an optional stop in Qatar, in March 2023.

This mission will introduce U.S. companies and trade associations to the United States' largest trading partners and four of the largest economies in the Middle East, all of whose governments are investing heavily in Clean Tech to contribute to the global fight against climate change and to diversify and develop their economies. This mission will also offer an opportunity for participants to meet with key Saudi, Emirati, Israeli, and Qatari project decision makers while in the presence of a senior Commerce Executive—and such senior leader messaging is vital in a region where governments play such an important role in the economy. The mission will visit Riyadh, Saudi Arabia; Abu Dhabi & Dubai, UAE; and Tel Aviv and Jerusalem, Israel; with an optional stop also in Doha, Qatar. This will be the U.S. government's first-ever trade mission to travel between the Gulf and Israel. Participating firms will gain market insights, make industry contacts, solidify business strategies, and advance their own specific projects, all with the goal of increasing U.S. Clean Tech goods and service exports to the region.

This mission will include customized one-on-one business appointments with pre-screened potential buyers, agents, distributors, and joint venture partners. It will also allow for meetings with industry leaders as well as government officials, along with other networking events. Please note, the Department of Commerce Executive will only accompany the delegation to Saudi Arabia, the UAE, and Israel during the week of Sunday, March 12 to Friday, March 17, 2023.

Delegates will benefit from the guidance and insights of ITA's commercial teams working in these markets, opportunities to network with U.S. companies already doing business in the region, and customized, one-on-one business appointments with pre-screened prospective buyers, agents, distributors, and joint venture partners as well as with local government officials and industry leaders.

Proposed Timetable

* Note: The final schedule and potential site visits will depend on the availability of host government and business officials, specific goals of mission participants, and ground transportation.

Wednesday, March 8 | OPTIONAL STOP—Doha, Qatar. • Mission Participants Arrive. • Welcome Briefing at Hotel.
Thursday, March 9 | OPTIONAL STOP—Doha, Qatar. • Ministry and other Qatar Government Briefings and Meetings. • Networking Lunch (No-Host). • One-on-One business matchmaking appointments.
Friday, March 10 | Travel to Riyadh, Saudi Arabia or down day.
Saturday, March 11 | Travel to Riyadh, Saudi Arabia or down day. * All TM participants expected to arrive by Saturday, March 11.
Sunday, March 12 | Full Day in Riyadh, Saudi Arabia. • Welcome and Saudi Arabia Country Briefing. • Ministry and other Saudi Government Briefings and meetings. • Networking Lunch Hosted by Chief of Mission. • One-on-One business matchmaking appointments. • Networking Reception at Hotel.
Monday, March 13 | Morning in KSA, Travel to Dubai in Afternoon. • Morning B2B Meetings in Saudi Arabia. • Travel to Dubai, UAE. • Ministry and other Kuwait Government Briefings and Meetings. • One-on-One business matchmaking appointments. • Networking Reception at Consul General residence (TBC).
Tuesday, March 14 | Full Day in UAE (Morning Dubai, Afternoon Abu Dhabi). • One-on-One business matchmaking appointments in Dubai. • Transfer to Abu Dhabi. • Ministry Meeting in Abu Dhabi. • Afternoon business matchmaking appointments. • Evening Networking Reception at Chief of Mission Residence.
Wednesday, March 15 | Morning Abu Dhabi, Travel to Israel.
| • Morning flight from Abu Dhabi to Tel Aviv, Israel.
| • Welcome Lunch & Briefing at Hotel.
| • One-on-One business matchmaking appointments.
| • Evening Networking Event at Chief of Mission Residence.
Thursday, March 16 | Full Day in Tel Aviv, Israel (Mission Ends at close of business). • Ministry and other Israeli Government Briefings and meetings. • Morning one-on-one business matchmaking appointments. • Lunch with Government Officials. • Afternoon one-on-one business matchmaking appointments. • Optional site visits.

Participation Requirements

All parties interested in participating in the trade mission must complete and submit an application package for consideration by the DOC. All applicants will be evaluated on their ability to meet certain conditions and best satisfy the selection criteria as outlined below. A minimum of 15 and maximum of 20 firms and/or trade associations will be selected to participate in the mission from the applicant pool.

Fees and Expenses

After a firm or trade association has been selected to participate on the mission, a payment to the Department of Commerce in the form of a participation fee is required. The participation fee for the Digital Transformation Business Development Mission will be $6,800 for small or medium-sized enterprises (SME); ¹ and $7,400 for large firms or trade associations. The fee for each additional firm representative (large firm or SME/trade organization) is $1,000. The participation fee for the optional spin-off to the UAE will be $2,300 for small or medium-sized enterprises (SME); ² and $3600 for large firms or trade associations. Expenses for travel, lodging, meals, and incidentals will be the responsibility of each mission participant. Interpreter and driver services can be arranged for additional cost. Delegation members will be able to take advantage of U.S. Embassy rates for hotel rooms.

Timeframe for Recruitment and Application

Mission recruitment will be conducted in an open and public manner, including publication in the Federal Register, posting on the Commerce Department trade mission calendar (https://www.trade.gov/trade-missions) and other internet websites, press releases to general and trade media, direct mail, notices by industry trade associations and other multiplier groups, and publicity at industry meetings, symposia, conferences, and trade shows. Recruitment for the mission will begin immediately and conclude no later than January 13, 2023. The U.S. Department of Commerce will review applications and inform applicants of selection decisions on a rolling basis. Applications received after January 13, 2023, will be considered only if space and scheduling constraints permit.

Contacts

Mike Calvert, Deputy Senior Commercial Officer, U.S. Embassy Israel, U.S. Commercial Service, International Trade Administration | U.S. Department of Commerce, Mobile: +972 3-519-8509, Mike.Calvert@trade.gov.

Jim Cramer, Deputy Director, Office of the Middle East, U.S. Department of Commerce, Washington DC, Tel: 202-790-7342, James.Cramer@trade.gov.

Drew Pederson, Desk Officer for UAE, Qatar, Kuwait and Oman, International Trade Administration, U.S. Department of Commerce, Tel: 202-569-7479.

Dated: March 14, 2022.
Gemal Brangman,
Director, ITA Events Management Task Force.

[FR Doc. 2022-05708 Filed 3-17-22; 8:45 am]

BILLING CODE 3510-DR-P